DEPARTMENT OF COMMERCE

International Trade Administration

[A-580-865, A-201-839]

Bottom Mount Combination Refrigerator-Freezers From the Republic of Korea and Mexico: Initiation of Antidumping Duty Investigations

AGENCY: Import Administration, International Trade Administration, Department of Commerce

DATES: Effective Date: April 26, 2011.

FOR FURTHER INFORMATION CONTACT: David Goldberger (Republic of Korea) or Henry Almond (Mexico), AD/CVD Operations, Office 2, Import Administration, International Trade Administration, U.S. Department of Commerce, 14th Street and Constitution Avenue, NW., Washington, DC 20230; telephone: (202) 482-4136 or (202) 482-0049, respectively.

SUPPLEMENTARY INFORMATION:

The Petitions

On March 30, 2011, the Department of Commerce (“the Department”) received antidumping duty petitions concerning imports of bottom mount combination refrigerator-freezers (“bottom mount refrigerators”) from the Republic of Korea (“Korea”) and Mexico filed in proper form by Whirlpool Corporation (“the petitioner”), a domestic producer of bottom mount refrigerators. See Bottom Mount Combination Refrigerator-Freezers from the Republic of Korea and Mexico; Antidumping and Countervailing Duty Petitions (collectively, “the petitions”). On April 5 and 12, 2011, the Department issued requests for additional information and clarification of certain areas of the antidumping petitions on Korea and Mexico. Based on the Department's request, the petitioner filed supplements to the petitions on Korea and Mexico on April 11 and 14, 2011.

In accordance with section 732(b) of the Tariff Act of 1930, as amended (“the Act”), the petitioner alleges that imports of bottom mount refrigerators from Korea and Mexico are being, or are likely to be, sold in the United States at less than fair value, within the meaning of section 731 of the Act, and that such imports materially injure, or threaten material injury to, an industry in the United States.

The Department finds that the petitioner filed these petitions on behalf of the domestic industry because the petitioner is an interested party as defined in section 771(9)(C) of the Act, and it has demonstrated sufficient industry support with respect to the investigations that it is requesting the Department to initiate (see “Determination of Industry Support for the Petitions” below).

Scope of Investigations

The products covered by these investigations are bottom mount refrigerators from Korea and Mexico. For a full description of the scope of the investigations, please see the “Scope of Investigations,” in Appendix I of this notice.

Comments on Scope of Investigations

During our review of the petitions, we discussed the scope with the petitioner to ensure that it is an accurate reflection of the products for which the domestic industry is seeking relief. Moreover, as discussed in the preamble to the regulations (Antidumping Duties; Countervailing Duties; Final Rule, 62 FR 27296, 27323 (May 19, 1997)), we are setting aside a period for interested parties to raise issues regarding product coverage. The Department encourages all interested parties to submit such comments by May 9, 2011, 20 calendar days from the date of signature of this notice. All comments must be filed on the records of the Korea and Mexico antidumping duty investigations as well as the Korea countervailing duty investigation. Comments should be addressed to Import Administration's APO/Dockets Unit, Room 1870, U.S. Department of Commerce, 14th Street and Constitution Avenue, NW., Washington, DC 20230. The period of scope consultations is intended to provide the Department with ample opportunity to consider all comments and to consult with parties prior to the issuance of the preliminary determinations.

Comments on Product Characteristics for Antidumping Duty Questionnaires

We are requesting comments from interested parties regarding the appropriate physical characteristics of bottom mount refrigerators to be reported in response to the Department's antidumping questionnaires. This information will be used to identify the key physical characteristics of the subject merchandise in order to more accurately report the relevant costs of production, as well as to develop appropriate product comparison criteria.

Interested parties may provide any information or comments that they feel are relevant to the development of an accurate listing of physical characteristics. Specifically, they may provide comments as to which characteristics are appropriate to use as (1) general product characteristics and (2) the product comparison criteria. We note that it is not always appropriate to use all product characteristics as product comparison criteria. We base product comparison criteria on meaningful commercial differences among products. In other words, while there may be some physical product characteristics utilized by manufacturers to describe bottom mount refrigerators, it may be that only a select few product characteristics take into account commercially meaningful physical characteristics. In addition, interested parties may comment on the order in which the physical characteristics should be used in product matching. Generally, the Department attempts to list the most important physical characteristics first and the least important characteristics last.

In order to consider the suggestions of interested parties in developing and issuing the antidumping duty questionnaires, we must receive comments at the above-referenced address by May 9, 2011. Additionally, rebuttal comments must be received by May 16, 2011. All comments must be filed on the records of both the Korea and Mexico antidumping duty investigations.

Determination of Industry Support for the Petitions

Section 732(b)(1) of the Act requires that a petition be filed on behalf of the domestic industry. Section 732(c)(4)(A) of the Act provides that a petition meets this requirement if the domestic producers or workers who support the petition account for: (i) At least 25 percent of the total production of the domestic like product; and (ii) more than 50 percent of the production of the domestic like product produced by that portion of the industry expressing support for, or opposition to, the petition. Moreover, section 732(c)(4)(D) of the Act provides that, if the petition does not establish support of domestic producers or workers accounting for more than 50 percent of the total production of the domestic like product, the Department shall: (i) Poll the industry or rely on other information in order to determine if there is support for the petition, as required by subparagraph (A); or (ii) determine industry support using a statistically valid sampling method to poll the industry.

Section 771(4)(A) of the Act defines the “industry” as the producers as a whole of a domestic like product. Thus, to determine whether a petition has the requisite industry support, the statute directs the Department to look to producers and workers who produce the domestic like product. The International Trade Commission (“ITC”), which is responsible for determining whether “the domestic industry” has been injured, must also determine what constitutes a domestic like product in order to define the industry. While both the Department and the ITC must apply the same statutory definition regarding the domestic like product (see section 771(10) of the Act), they do so for different purposes and pursuant to a separate and distinct authority. In addition, the Department's determination is subject to limitations of time and information. Although this may result in different definitions of the like product, such differences do not render the decision of either agency contrary to law. See USEC, Inc. v. United States, 132 F. Supp. 2d 1, 8 (CIT 2001), citing Algoma Steel Corp., Ltd. v. United States, 688 F. Supp. 639, 644 (CIT 1988), aff'd 865 F.2d 240 (Fed. Cir. 1989), cert. denied 492 U.S. 919 (1989).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioner does not offer a definition of domestic like product distinct from the scope of the investigations. Based on our analysis of the information submitted on the record, we have determined that bottom mount refrigerators constitute a single domestic like product and we have analyzed industry support in terms of that domestic like product. For a discussion of the domestic like product analysis in this case, see Antidumping Duty Investigation Initiation Checklist: Bottom Mount Combination Refrigerator-Freezers from Korea (“Korea AD Initiation Checklist”) and Antidumping Duty Investigation Initiation Checklist: Bottom Mount Combination Refrigerator-Freezers from Mexico (“Mexico AD Initiation Checklist”), at Attachment II, Analysis of Industry Support for the Petitions Covering Bottom Mount Combination Refrigerator-Freezers, on file in the Central Records Unit (“CRU”), Room 7046 of the main Department of Commerce building.

In determining whether the petitioner has standing under section 732(c)(4)(A) of the Act, we considered the industry support data contained in the petitions with reference to the domestic like product as defined in the “Scope of Investigations” section above. To establish industry support, the petitioner provided its production volume of the domestic like product in 2010, and compared it to the estimated total production of the domestic like product for the entire domestic industry. See Volume I of the petitions, at 8-11, Volume 2A of the petitions, at Exhibits 4 and 5, and Supplement to the AD/CVD petitions, dated April 11, 2011 (“Supplement to the AD/CVD petitions”) at 2-4 and Exhibits S-1, S-2, and S-3. The petitioner estimated 2010 production of the domestic like product by non-petitioning companies based on its knowledge of its competitors and their production capacity. We have relied upon data the petitioner provided for purposes of measuring industry support. For further discussion, see Korea AD Initiation Checklist and Mexico AD Initiation Checklist, at Attachment II.

Our review of the data provided in the petitions, supplemental submissions, and other information readily available to the Department indicates that the petitioner has established industry support. First, the petitions established support from domestic producers (or workers) accounting for more than 50 percent of the total production of the domestic like product and, as such, the Department is not required to take further action in order to evaluate industry support (e.g., polling). See section 732(c)(4)(D) of the Act, Korea AD Initiation Checklist and Mexico AD Initiation Checklist, at Attachment II. Second, the domestic producers (or workers) have met the statutory criteria for industry support under section 732(c)(4)(A)(i) of the Act because the domestic producers (or workers) who support the petitions account for at least 25 percent of the total production of the domestic like product. See Korea AD Initiation Checklist and Mexico AD Initiation Checklist, at Attachment II. Finally, the domestic producers (or workers) have met the statutory criteria for industry support under section 732(c)(4)(A)(ii) of the Act because the domestic producers (or workers) who support the petitions account for more than 50 percent of the production of the domestic like product produced by that portion of the industry expressing support for, or opposition to, the petitions. Accordingly, the Department determines that the petitions were filed on behalf of the domestic industry within the meaning of section 732(b)(1) of the Act. See id.

The Department finds that the petitioner filed the petitions on behalf of the domestic industry because it is an interested party as defined in section 771(9)(C) of the Act and it has demonstrated sufficient industry support with respect to the antidumping duty investigations that it is requesting the Department initiate. See id.

Allegations and Evidence of Material Injury and Causation

The petitioner alleges that the U.S. industry producing the domestic like product is being materially injured, or is threatened with material injury, by reason of the imports of the subject merchandise sold at less than normal value (“NV”). In addition, the petitioner alleges that subject imports exceed the negligibility threshold provided for under section 771(24)(A) of the Act.

The petitioner contends that the industry's injured condition is illustrated by reduced market share, reduced shipments, underselling and price depression or suppression, decline in financial performance, lost sales and revenue, and increase in the volume of imports and import penetration. See Volume I of the petitions, at 114-138, Volume 2A of the petitions, at Exhibit 6, Volume 2B of the petitions, at Exhibits 35 and 38-42, and Supplement to the AD/CVD petitions, at 5-10 and Exhibits S-1, S-2, S-4, and S-5. We have assessed the allegations and supporting evidence regarding material injury, threat of material injury, and causation, and we have determined that these allegations are properly supported by adequate evidence and meet the statutory requirements for initiation. See Korea AD Initiation Checklist and Mexico AD Initiation Checklists, at Attachment III, Analysis of Allegations and Evidence of Material Injury and Causation for the Petitions Covering Bottom Mount Combination Refrigerator-Freezers from the Republic of Korea and Mexico.

Period of Investigations

In accordance with 19 CFR 351.204(b), because these petitions were filed on March 30, 2011, the period of investigation (“POI”) is January 1, 2010, through December 31, 2010, for both Korea and Mexico.

Allegations of Sales at Less Than Fair Value

The following is a description of the allegations of sales at less than fair value upon which the Department has based its decision to initiate investigations with respect to Korea and Mexico. The sources of, and adjustments to, the data relating to U.S. price and NV are discussed in greater detail in the Korea AD Initiation Checklist and the Mexico AD Initiation Checklist.

Korea

U.S. Price

The petitioner provided two U.S. prices based on average model-specific retail prices obtained from a market survey database. These prices were adjusted to exclude the retailer markup, as well as discounts and rebates, based on the petitioner's experience in and knowledge of the market. The petitioner deducted international freight based on U.S. Customs and Border Protection (“CBP”) data. It made no other adjustments to U.S. price. See Korea AD Initiation Checklist.

Normal Value

The petitioner provided two home market prices based on a survey of retail prices in Korea. These prices were adjusted to exclude the retailer markup, as well as discounts and rebates, based on the petitioner's experience in and knowledge of the market. The petitioner further adjusted home market price by deducting Korean VAT and other taxes. It made no other adjustments to home market price.

In order to calculate NV, the petitioner made an adjustment for differences in costs attributable to differences in the physical characteristics of the merchandise. See Korea AD Initiation Checklist.

Mexico

U.S. Price

The petitioner provided two U.S. prices based on average model-specific retail prices obtained from a market survey database. These prices were adjusted to exclude the retailer markup, as well as discounts and rebates, based on the petitioner's experience in and knowledge of the market. Because the Mexican producers sell refrigerators in the United States through affiliated resellers, the petitioner calculated constructed export price (“CEP”) by deducting international freight based on CBP data and U.S. freight and selling expenses based on the petitioner's own financial statements for its U.S. operations related to bottom mount refrigerators. See Mexico AD Initiation Checklist.

Normal Value

The petitioner provided two home market prices based on retail prices available in Mexico. These prices were adjusted to exclude the retailer markup, as well as discounts and rebates, based on the petitioner's experience in and knowledge of the market. The petitioner calculated a net home market price by deducting inland freight and selling expenses based on the petitioner's financial statements for its operations in Mexico related to refrigerator production and sales.

In order to calculate NV, the petitioner made an adjustment for differences in costs attributable to differences in the physical characteristics of the merchandise. See Mexico AD Initiation Checklist.

Sales-Below-Cost Allegations

The petitioner provided information demonstrating reasonable grounds to believe or suspect that sales of bottom mount refrigerators in the Korean and Mexican markets were made at prices below the fully-absorbed cost of production (“COP”), within the meaning of section 773(b) of the Act, and requested that the Department conduct a country-wide sales-below-cost investigation. The Statement of Administrative Action (“SAA”), submitted to the Congress in connection with the interpretation and application of the Uruguay Round Agreements Act (“URAA”), states that an allegation of sales below COP need not be specific to individual exporters or producers. See SAA, URAA, H. Doc. 316, Vol. 1, 103d Cong. (1994) at 833. The SAA, at 833, states that “Commerce will consider allegations of below-cost sales in the aggregate for a foreign country, just as Commerce currently considers allegations of sales at less than fair value on a country-wide basis for purposes of initiating an antidumping investigation.”

Further, the SAA provides that section 773(b)(2)(A) of the Act retains the requirement that the Department have “reasonable grounds to believe or suspect” that below-cost sales have occurred before initiating such an investigation. See id. Reasonable grounds exist when an interested party provides specific factual information on costs and prices, observed or constructed, indicating that sales in the foreign market in question are at below-cost prices.

Korea

Cost of Production

Pursuant to section 773(b)(3) of the Act, COP consists of the cost of manufacturing (“COM”); selling, general and administrative (“SG&A”) expenses; financial expenses; and packing expenses. The petitioner relied on its own production experience to calculate the raw material, packing, and freight costs included in the calculation of COM. The petitioner adjusted these inputs to account for known differences in weights and technologies between the petitioner's U.S. bottom mount refrigerator models and those of the Korean producers' bottom mount refrigerator models sold in the comparison market and the United States. Inbound freight was calculated based on the petitioner's own experience adjusted for differences in weight between the bottom mount refrigerator models used to calculate COP/constructed value (“CV”) and the Korean models.

The petitioner relied on its own labor costs, adjusted for known differences between the U.S. and Korean hourly compensation rates for electrical equipment, appliance, and component manufacturing in 2007, as reported by the U.S. Bureau of Labor Statistics. The petitioner relied on its own experience to determine the per-unit factory overhead costs (exclusive of labor) associated with the production of bottom mount refrigerators.

The petitioner stated that the bottom mount refrigerator manufacturing processes in Korea are very similar to its own manufacturing processes, and therefore it is reasonable to estimate the Korean producers' usage and factory overhead rates based on the usage and factory overhead rates experienced by a U.S. bottom mount refrigerator producer. The petitioner also asserted that the use of Korean import data results in aberrationally higher weighted-average raw material and packing costs in comparison to the petitioner's own raw material and packing costs. Therefore, the reliance on the petitioner's own raw material and packing costs for purposes of calculating COP is conservative.

To value SG&A and financial expense rates, the petitioner relied on the fiscal year 2009 financial statements of two Korean producers of bottom mount refrigerators. See Korea AD Initiation Checklist for further discussion.

Based upon a comparison of the prices of the foreign like product in the home market to the calculated COP of the most comparable product, we find reasonable grounds to believe or suspect that sales of the foreign like product were made below the COP, within the meaning of section 773(b)(2)(A)(i) of the Act. Accordingly, the Department is initiating a country-wide cost investigation for Korea.

Normal Value Based on Constructed Value

Because it alleged sales below cost for Korea, pursuant to sections 773(a)(4), 773(b) and 773(e) of the Act, the petitioner calculated NV based on CV. The petitioner calculated CV using the same average COM, SG&A, financial and packing figures used to compute the COP. The petitioner did not include in the CV calculation an amount for profit. See Korea AD Initiation Checklist.

Fair Value Comparisons

Based on the data provided by the petitioner, there is reason to believe that imports of bottom mount refrigerators from Korea are being, or are likely to be, sold in the United States at less than fair value. Based on a comparison of U.S. Price to home market price, as discussed above, the estimated dumping margin is 61.82. Based on a comparison of U.S. price to CV, as discussed above, the estimated dumping margin is 34.16 percent. See id.

Mexico

Cost of Production

Pursuant to section 773(b)(3) of the Act, COP consists of the COM; SG&A expenses; financial expenses; and packing expenses. The petitioner relied on its own production experience to calculate the quantity of the raw material and packing inputs, as well as the freight costs included in the calculation of COM. The petitioner adjusted the value of the raw material and packing inputs using the ratio of prices paid in Mexico by the bottom mount refrigerator producers to its own prices. The petitioner further adjusted these input values to account for known differences in weights and technologies between the petitioner's U.S. bottom mount refrigerator models used for purposes of calculating COP and CV and the Mexican bottom mount refrigerator models sold in the comparison market and the United States. Inbound freight was calculated based on the petitioner's own experience adjusted for differences in weight between the bottom mount refrigerator models used to calculate COP/CV and the Mexican models.

The petitioner relied on its own labor costs, adjusted for known differences between the U.S. and Mexican hourly compensation rates for electrical equipment, appliance, and component manufacturing in 2007, as reported by the U.S. Bureau of Labor Statistics. The petitioner relied on its own experience to determine the per-unit factory overhead costs (exclusive of labor) associated with the production of bottom mount refrigerators.

The petitioner stated that the bottom mount refrigerator manufacturing process in Mexico is very similar to its own manufacturing process, and therefore it is reasonable to estimate the Mexican producers' usage and factory overhead rates based on the usage and factory overhead rates experienced by a U.S. bottom mount refrigerator producer.

To value general and administrative (G&A) expenses, the petitioner relied on the 2010 financial statements of its Mexican subsidiary. The petitioner assumed a financial expense of zero. See the Mexico AD Initiation Checklist for further discussion.

Based upon a comparison of the prices of the foreign like product in the home market to the calculated COP of the most comparable product, we find reasonable grounds to believe or suspect that sales of the foreign like product were made below the COP, within the meaning of section 773(b)(2)(A)(i) of the Act. Accordingly, the Department is initiating a country-wide cost investigation for Mexico.

Normal Value Based on Constructed Value

Because it alleged sales below cost for Mexico, pursuant to sections 773(a)(4), 773(b) and 773(e) of the Act, the petitioner calculated NV based on CV. The petitioner calculated CV using the same average COM, G&A, financial and packing figures used to compute the COP. The petitioner also included an amount for profit in the CV calculation, based upon the petitioner's own financial statements related to production and sales of refrigerators in Mexico. See Mexico AD Initiation Checklist.

Fair Value Comparisons

Based on the data provided by the petitioner, there is reason to believe that imports of bottom mount refrigerators from Mexico are being, or are likely to be, sold in the United States at less than fair value. Based on a comparison of U.S. Price to home market price, as discussed above, the estimated dumping margin is 183.18 percent. Based on a comparison of U.S. Price to CV, as discussed above, the estimated dumping margin is 23.10 percent. See id.

Initiation of Antidumping Investigations

Based upon the examination of the petitions on bottom mount refrigerators from Korea and Mexico and other information reasonably available to the Department, the Department finds that these petitions meet the requirements of section 732 of the Act. Therefore, we are initiating antidumping duty investigations to determine whether imports of bottom mount refrigerators from Korea and Mexico are being, or are likely to be, sold in the United States at less than fair value. In accordance with section 733(b)(1)(A) of the Act, unless postponed, we will make our preliminary determinations no later than 140 days after the date of this initiation.

Targeted Dumping Allegations

On December 10, 2008, the Department issued an interim final rule for the purpose of withdrawing 19 CFR 351.414(f) and (g), the regulatory provisions governing the targeted dumping analysis in antidumping duty investigations, and the corresponding regulation governing the deadline for targeted-dumping allegations, 19 CFR 351.301(d)(5). See Withdrawal of the Regulatory Provisions Governing Targeted Dumping in Antidumping Duty Investigations, 73 FR 74930 (December 10, 2008). The Department stated that “{w}ithdrawal will allow the Department to exercise the discretion intended by the statute and, thereby, develop a practice that will allow interested parties to pursue all statutory avenues of relief in this area.” See id., at 74931.

In order to accomplish this objective, if any interested party wishes to make a targeted dumping allegation in any of these investigations pursuant to section 777A(d)(1)(B) of the Act, such allegations are due no later than 45 days before the scheduled date of the country-specific preliminary determination.

Respondent Selection

Although the Department normally relies on import data from CBP to select respondents in antidumping duty investigations involving market-economy countries, the Harmonized Tariff Schedule of the United States (HTSUS) categories under which bottom mount refrigerators may be entered are basket categories which include many other types of refrigerators and freezers. Therefore, the CBP data cannot be isolated to identify imports of subject merchandise during the POI. Accordingly, the Department must rely on an alternate methodology for respondent selection, as described below.

Korea

The petition names two companies as producers and/or exporters in Korea of bottom mount refrigerators: Samsung Electronics Co., Ltd. (“Samsung”) and LG Electronics, Inc. (“LG”). The petition identifies these two companies as accounting for virtually all of the imports of bottom mount refrigerators from Korea. Moreover, we know of no further exporters or producers of the subject merchandise because, as noted above, the CBP data does not provide for the isolation of such sales from the general “refrigerator-freezer” or “household refrigerator” basket HTSUS categories. Accordingly, the Department is selecting Samsung and LG as mandatory respondents in this investigation pursuant to section 777A(c)(1) of the Act. We will consider comments from interested parties on this respondent selection. Parties wishing to comment must do so within five days of the publication of this notice in the Federal Register.

Mexico

The CBP data is not useable for respondent selection purposes for the reason stated above. The petition names four Mexican producers/exporters of the subject merchandise. Due to limited resources, it may not be practicable to make individual weighted-average dumping margin determinations for each of them. The Department, therefore, will request quantity and value information from the exporters and producers of bottom mount refrigerators that are identified in the petition. In the event the Department decides to limit the number of mandatory respondents, the quantity and value data received from Mexican exporters and producers will be used as the basis to select the mandatory respondents.

Distribution of Copies of the Petition

In accordance with section 732(b)(3)(A) of the Act and 19 CFR 351.202(f), copies of the public version of the petitions and amendments thereto have been provided to the representatives of the Governments of Korea and Mexico. To the extent practicable, we will attempt to provide a copy of the public version of the petitions to each exporter named in the petition, as provided under 19 CFR 351.203(c)(2).

ITC Notification

We have notified the ITC of our initiation, as required by section 732(d) of the Act.

Preliminary Determinations by the ITC

The ITC will preliminarily determine, within 45 days after the date on which the petition was filed, whether there is a reasonable indication that imports of bottom mount refrigerators from Korea and Mexico materially injure, or threaten material injury to, a U.S. industry. A negative ITC determination with respect to any country would result in the termination of the investigation with respect to that country; see section 703(a)(1) of the Act. Otherwise, these investigations will proceed according to statutory and regulatory time limits.

Notification to Interested Parties

Interested parties must submit applications for disclosure under administrative protective orders in accordance with 19 CFR 351.305. On January 22, 2008, the Department published Antidumping and Countervailing Duty Proceedings: Documents Submission Procedures; APO Procedures, 73 FR 3634 (January 22, 2008). Parties wishing to participate in these investigations should ensure that they meet the requirements of these procedures (e.g., the filing of letters of appearance as discussed at 19 CFR 351.103(d)).

Any party submitting factual information in an AD/CVD proceeding must certify to the accuracy and completeness of that information. See section 782(b) of the Act. Parties are hereby reminded that revised certification requirements are in effect for company/government officials as well as their representatives in all segments of any AD/CVD proceedings initiated on or after March 14, 2011. See Certification of Factual Information to Import Administration During Antidumping and Countervailing Duty Proceedings: Interim Final Rule, 76 FR 7491 (February 10, 2011) (Interim Final Rule) amending 19 CFR 351.303(g)(1) and (2). The formats for the revised certifications are provided at the end of the Interim Final Rule. The Department intends to reject factual submissions in any proceeding segments initiated on or after March 14, 2011, if the submitting party does not comply with the revised certification requirements.

This notice is issued and published pursuant to section 777(i) of the Act and 19 CFR 351.203(c).

Dated: April 19, 2011.
Ronald K. Lorentzen,
Deputy Assistant Secretary for Import Administration.

Appendix I

Scope of the Investigations

The products covered by the investigations are all bottom mount combination refrigerator-freezers and certain assemblies thereof from Korea and Mexico. For purposes of the investigations, the term “bottom mount combination refrigerator-freezers” denotes freestanding or built-in cabinets that have an integral source of refrigeration using compression technology, with all of the following characteristics:

• The cabinet contains at least two interior storage compartments accessible through one or more separate external doors or drawers or a combination thereof;

• The upper-most interior storage compartment(s) that is accessible through an external door or drawer is either a refrigerator compartment or convertible compartment, but is not a freezer compartment;¹ and

¹ The existence of an interior sub-compartment for ice-making in the upper-most storage compartment does not render the upper-most storage compartment a freezer compartment.

• There is at least one freezer or convertible compartment that is mounted below the upper-most interior storage compartment(s).

For purposes of the investigations, a refrigerator compartment is capable of storing food at temperatures above 32 degrees F (0 degrees C), a freezer compartment is capable of storing food at temperatures at or below 32 degrees F (0 degrees C), and a convertible compartment is capable of operating as either a refrigerator compartment or a freezer compartment, as defined above.

Also covered are certain assemblies used in bottom mount combination refrigerator-freezers, namely: (1) Any assembled cabinets designed for use in bottom mount combination refrigerator-freezers that incorporate, at a minimum: (a) an external metal shell, (b) a back panel, (c) a deck, (d) an interior plastic liner, (e) wiring, and (f) insulation; (2) any assembled external doors designed for use in bottom mount combination refrigerator-freezers that incorporate, at a minimum: (a) an external metal shell, (b) an interior plastic liner, and (c) insulation; and (3) any assembled external drawers designed for use in bottom mount combination refrigerator-freezers that incorporate, at a minimum: (a) an external metal shell, (b) an interior plastic liner, and (c) insulation.

The products subject to the investigations are currently classifiable under subheadings 8418.10.0010, 8418.10.0020, 8418.10.0030, and 8418.10.0040 of the Harmonized Tariff System of the United States (HTSUS). Products subject to these investigations may also enter under HTSUS subheadings 8418.21.0010, 8418.21.0020, 8418.21.0030, 8418.21.0090, and 8418.99.4000, 8418.99.8050, and 8418.99.8060. Although the HTSUS subheadings are provided for convenience and customs purposes, the written description of the merchandise subject to this scope is dispositive.

[FR Doc. 2011-10048 Filed 4-25-11; 8:45 am]

BILLING CODE 3510-DS-P